DEPARTMENT OF TRANSPORTATION

Federal Aviation Administration

Availability of Record of Decision for the Environmental Impact Statement, Tucson International Airport, Tucson, Pima County, Arizona.

AGENCY: Federal Aviation Administration, DOT.

ACTION: Notice of availability for record of decision.

SUMMARY: The Federal Aviation Administration (FAA) is issuing this notice to advise the public that it has published a Record of Decision (ROD) signed by the FAA and the United States Air Force for the Final Environmental Impact Statement (EIS). The EIS evaluated proposed Airfield Safety Enhancement Project at Tucson International Airport (TUS), Tucson, Pima County, Arizona.

FOR FURTHER INFORMATION CONTACT: David B. Kessler, AICP, Regional Environmental Protection Specialist, AWP-610.1, Office of Airports, Federal Aviation Administration, Western-Pacific Region, 777 South Aviation Boulevard, Suite 150, El Segundo, California 90245, Telephone: 424-405-7315.

SUPPLEMENTARY INFORMATION: The FAA as lead agency, along with the United States Air Force, as a cooperating agency on behalf of the United States Air Force and the National Guard Bureau, have completed and are publishing a Record of Decision (ROD) for proposed improvements and various land transactions identified at TUS. The ROD was prepared pursuant to Title 40, Code of Federal Regulations (CFR) 1505.2.

The FAA published its Final EIS for these proposed improvements on August 31, 2018. The FAA prepared the Final EIS pursuant to the National Environmental Policy Act of 1969; the Council of Environmental Quality implementing regulations, 40 CFR parts 1500-1508, FAA Order 1050.1F, and FAA Order 5050.4B. FAA assessed the potential environmental impacts of the Airfield Safety Enhancement Project (ASEP), as well as the No Action Alternative where the FAA would make no improvements at TUS.

In the Final EIS, the FAA identified the ASEP as the preferred alternative in meeting the purpose and need for enhancement of safety at TUS. The ASEP includes relocation of Runway 11R/29L (proposed to be 10,996 feet long by 150 feet wide); the demolition of the existing Runway 11R/29L; the construction of a new center parallel and connecting taxiway system; acquisition of land for the runway object-free area, runway safety area, and the runway protection zone from Air Force Plant (AFP) 44. The ASEP also includes relocation of navigational aids and development and/or modification of associated arrival and departure procedures for the relocated runway. The ASEP also includes demolition of 12 Earth Covered Magazines (ECMs) on AFP 44 and their replacement elsewhere on AFP 44. The ASEP also includes both connected and similar land transfer actions from the Tucson Airport Authority (TAA) to the USAF for land at AFP 44; and another parcel of airport land, on behalf of the National Guard Bureau, for construction of a Munitions Storage Area for the Arizona Air National Guard 162nd Wing at the Tucson Air National Guard Base.

Copies of the ROD are available for public review at the following locations during normal business hours:

• U.S. Department of Transportation, Federal Aviation Administration, Western-Pacific Region, Office of Airports, 777 South Aviation Boulevard, Suite 150, El Segundo, California 90245.

• U.S. Department of Transportation, Federal Aviation Administration, Phoenix Airports District Office, 3800 North Central Avenue, Suite 1025, 10th Floor, Phoenix, Arizona 85012.

• Tucson International Airport Administrative Offices, 7250 South Tucson Boulevard, Suite 300, Tucson, Arizona 85756.

The ROD may also be viewed at FAA's website: https://www.faa.gov/airports/environmental/records_decision/ and the TUS EIS website https://www.airportprojects.net/tus-eis/.

Copies of the ROD is also available at the following libraries:

• Joel D. Valdez Main Library, 101 North Stone Avenue, Tucson, Arizona 85701

• Murphy-Wilmot Library, 530 North Wilmot Road, Tucson, Arizona 85711

• Dusenberry-River Library 5605 East River Road, Suite 105, Tucson, Arizona 85750

• Mission Public Library, 3770 South Mission Road, Tucson, Arizona 85713

• El Pueblo Library, 101 West Irvington Road, Tucson, Arizona 85706

• Valencia Library, 202 West Valencia Road, Tucson, Arizona 85706

• El Rio Library, 1390 W Speedway Blvd., Tucson, AZ 85745

• Santa Rosa Library, 1075 S 10th Ave, Tucson, AZ 85701

• Quincie Douglas library, 1585 East 36th Street, Tucson, Arizona 85713

• Eckstrom-Columbus Library, 4350 East 22nd Street, Tucson, AZ 85711

• Himmel Park Library, Himmel Park, 1035 North Treat Avenue, Tucson, AZ 85716

• Martha Cooper Library 1377 North Catalina Avenue, Tucson, Arizona 85712

• Woods Memorial Library, 3455 North 1st Avenue, Tucson, Arizona 85719

• University of Arizona Main Library—1510 East University Boulevard, Tucson, Arizona 85721

Questions may be directed to the individual above under the heading FOR FURTHER INFORMATION CONTACT.

Issued in El Segundo, California, on December 7, 2018.
Mark A. McClardy,
Director, Office of Airports, Western-Pacific Region, AWP-600.

[FR Doc. 2018-27021 Filed 12-12-18; 8:45 am]

BILLING CODE 4910-13-P